INTERNATIONAL TRADE COMMISSION

[USITC SE-12-011]

Sunshine Act Meeting; Correction

AGENCY HOLDING THE MEETING: United States International Trade Commission.

Federal Register CITATION OF PREVIOUS ANNOUNCEMENT: 77 FR 22344.

ORIGINALLY PUBLISHED TIME AND DATE: April 17, 2012 at 9:30 a.m.

CORRECT TIME AND DATE: April 17, 2012 at 11 a.m.

PLACE: Room 101, 500 E Street SW., Washington, DC 20436, Telephone: (202) 205-2000.

STATUS: Open to the public.

ACTION: In accordance with 19 CFR 201.35(d)(1), notification is hereby given that the public meeting of April 17, 2012, is being held at 11 a.m.

MATTERS TO BE CONSIDERED: 1. Agendas for future meetings: none.

2. Minutes.

3. Ratification List.

4. Vote in Inv. Nos. 701-TA-477 and 731-TA-1180-1181 (Final) (Bottom Mount Combination Refrigerator-Freezers from Korea and Mexico). The Commission is currently scheduled to transmit its determinations and Commissioners' opinions to the Secretary of Commerce on or before April 30, 2012.

5. Vote in Inv. Nos. 701-TA-478 and 731-TA-1182 (Final) (Certain Steel Wheels from China). The Commission is currently scheduled to transmit its determinations and Commissioners' opinions to the Secretary of Commerce on or before April 30, 2012.

6. Outstanding action jackets: none.

In accordance with Commission policy, subject matter listed above, not disposed of at the scheduled meeting, may be carried over to the agenda of the following meeting.

Issued: April 12, 2012.
James R. Holbein,
Secretary to the Commission.

[FR Doc. 2012-9255 Filed 4-13-12; 11:15 am]

BILLING CODE 7020-02-P